DEPARTMENT OF TRANSPORTATION

Surface Transportation Board

[Docket No. FD 35087]

Canadian National Railway Company and Grand Trunk Corporation—Control—EJ&E West Company ¹

¹ This decision also embraces Elgin, Joliet & E. Ry.—Corporate Family Exemption—EJ&E W. Co., FD 35087 (Sub-No. 1); Chi., Cent. & Pac. R.R.—Trackage Rights Exemption—EJ&E W. Co., FD 35087 (Sub-No. 2); Grand Trunk W. R.R.—Trackage Rights Exemption—EJ&E W. Co., FD 35087 (Sub-No. 3); Ill. Cent. R.R.—Trackage Rights Exemption—EJ&E W. Co., FD 35087 (Sub-No. 4); Wis. Cent. Ltd.—Trackage Rights Exemption—EJ&E W. Co., FD 35087 (Sub-No. 5); EJ&E W. Co.—Trackage Rights Exemption—Chi., Cent. & Pac. R.R., FD 35087 (Sub-No. 6); and EJ&E W. Co.—Trackage Rights Exemption—Ill. Cent. R.R., FD 35087 (Sub-No. 7).

AGENCY: Surface Transportation Board, DOT.

ACTION: Notice.

SUMMARY: The Surface Transportation Board will hold a public hearing beginning at 1 p.m. on Wednesday, April 28, 2010, in the Hearing Room on the first floor of the Board's headquarters in Washington, DC. The purpose of the hearing is for Canadian National Railway Company (CN) to explain why CN's submissions to the Board on crossing blockages of 10 minutes or more differ from data automatically reported in its own crossing gates, and why CN did not disclose that it had such information. The meeting will be open for public observation but not public participation.

DATES: The meeting will take place on Wednesday, April 28, 2010, beginning at 1 p.m.

ADDRESS: The meeting will be held in the Hearing Room on the first floor of the Board's headquarters at Patriot's Plaza, 395 E Street, SW., Washington, DC 20423-0001.

FOR FURTHER INFORMATION CONTACT: Amy Ziehm, Office of Proceedings, Telephone: (202) 245-0391. [Assistance for the hearing impaired is available through the Federal Information Relay Service (FIRS) at: (800) 877-8339.]

SUPPLEMENTARY INFORMATION: In a decision served December 24, 2008, the Board approved, subject to numerous environmental and other conditions, the acquisition of control by CN of EJ&E West Company, a wholly owned, noncarrier subsidiary of Elgin, Joliet and Eastern Railway Company (EJ&E). See Canadian Nat'l Ry. & Grand Trunk Corp.—Control—EJ&E W. Co. (Approval Decision), FD 38057, et al. (STB served Dec. 24, 2008). As part of the Approval Decision, the Board established a 5-year monitoring and oversight period to allow the Board to examine closely various aspects of the transaction, including community concerns about post-acquisition increased delay and blockages at the numerous highway/rail at-grade crossings (places where rail lines cross streets at the same level, rather than going over or under the streets) on the former EJ&E line. As part of that oversight process, CN must file monthly status reports on certain operational matters related to the acquisition, including “the date and descriptive information about each crossing blocking occurrence on the [former] EJ&E rail line that exceeds 10 minutes in duration.” Id. at 26. CN also must file quarterly reports on the implementation of the environmental conditions.

CN reported in its November 2009 operational report that 4 street crossing blockages of 10 minutes or more occurred because of stopped CN trains on the former EJ&E line. CN's December 2009 operational report stated that 10 street crossing blockages of 10 minutes or more had occurred as a result of stopped CN trains.

Citizens and communities along the former EJ&E line began to voice concerns about the accuracy and completeness of CN's reports. To investigate, the Board tasked its independent third-party contractor, HDR, Inc. (HDR), to review and audit information provided by CN in its monthly reports for November and December 2009. HDR was specifically instructed to review the information reported by CN on the number of trains operating on the former EJ&E line that caused blockages at highway/rail at-grade crossings for 10 minutes or more.²

² The audit also involved vehicle delay and traffic congestion at at-grade crossings; train volumes; noise and vibration caused by CN trains; operational accidents; and appropriate public grade crossing signs.

HDR's independent audit report, prepared at the Board's request, presents a significantly different story than CN's reports. HDR's report explains that it discovered that many of the highway/rail at-grade crossings on the former EJ&E line acquired by CN are equipped with “Radio Transmission Units,” also known as RTUs, which record when crossing gates are down. When the gate down time exceeds 10 minutes, the RTU sends a time-stamped fax to the train dispatcher. When the crossing gate is raised, the RTU sends another fax to the train dispatcher indicating that the gate has been raised, along with the time that the crossing gate has gone up. The total elapsed time is then calculated and archived.

According to HDR's report, the RTU-generated data shows 1,457 instances, involving 85 different crossings on the former EJ&E line, where the crossing signal system was activated and the gates were in the down position for periods exceeding 10 minutes in November/December 2009. The 14 instances of street crossing blockages due to stopped trains in CN's reports for November/December 2009 are included in the RTU-generated data for the same time periods. However, 1,443 street crossing blockages of 10 minutes or more listed in the RTU-generated data are not described in CN's monthly reports.

Consequently, the Board hereby orders CN to appear for a hearing at the Board's offices on April 28, 2010. At that time, the Board expects CN to address why it did not report the existence of this data to the Board earlier as part of its ongoing monitoring responsibilities. HDR representatives also will appear at the hearing to answer Board questions regarding its independent audit that uncovered this RTU data.

The hearing will be open for public observation but not for public participation. The general public is invited to file written comments by May 28, 2010, on HDR's audit and the RTU-data CN will be submitting to the Board.

Live Video Streaming Available Via the Internet: A video broadcast of this hearing will be available on the Board's Web site at http://www.stb.dot.gov, under “Information Center”/“Webcast”/“Live Video.”

This action will not significantly affect either the quality of the human environment or the conservation of energy resources.

Dated: April 20, 2010.
By the Board, Rachel D. Campbell, Director, Office of Proceedings.
Kulunie L. Cannon,
Clearance Clerk.

[FR Doc. 2010-9611 Filed 4-23-10; 8:45 am]

BILLING CODE 4915-01-P